OFFICE OF THE UNITED STATES TRADE REPRESENTATIVE

[Docket No. WTO/DS-268]

WTO Dispute Settlement Proceeding Regarding the Sunset Review of the Antidumping Duty Order on Oil Country Tubular Goods From Argentina

AGENCY: Office of the United States Trade Representative.

ACTION: Notice; request for comments.

SUMMARY: The Office of the United States Trade Representative (“USTR”) is providing notice that on October 7, 2002, the United States received from Argentina a request for consultations under the Marrakesh Agreement Establishing the World Trade Organization (“WTO Agreement”) regarding the sunset review of the antidumping duty order on oil country tubular goods (“OCTG”) from Argentina. Argentina alleges that the sunset review determinations made by U.S. authorities concerning this product, and certain related matters, are inconsistent with Articles 1,2,3,5,6,11,12 and 18 of the Agreement on Implementation of Article VI of the General Agreements on Tariffs and Trade 1994 (“AD Agreement”), Articles VI and X of the General Agreement on Tariffs and Trade 1994 (“GATT 1994”), and Article XVI:4 of the WTO Agreement. USTR invites written comments from the public concerning the issues raised in this dispute.

DATES: Although USTR will accept any comments received during the course of the dispute settlement proceedings, comments should be submitted on or before February 21, 2003, to be assured of timely consideration by USTR.

ADDRESSES: Comments should be submitted (i) electronically, to FR0051@ustr.gov, or (ii) by mail, to Sandy McKinzy, Office of the United States Trade Representative, 600 17th Street, NW., Washington, DC 20508, Attn: Argentina Sunset Dispute, with an confirmation copy sent electronically to the address above, or by fax to (202) 395-3640, in accordance with the requirements for submission set out below.

FOR FURTHER INFORMATION CONTACT: William D. Hunter, Associate General Counsel, Office of the United States Trade Representative, 600 17th Street, NW., Washington, DC, (202) 395-3582.

SUPPLEMENTARY INFORMATION: Section 127(b) of the Uruguay Round Agreements Act (“URAA”) (19 U.S.C. 3537(b)(1)) requires that notice and opportunity for comment be provided after the United States submits or receives a request for the establishment of a WTO dispute settlement panel. Consistent with this obligation, but in an effort to provide additional opportunity for comment, USTR is providing notice that consultations have been requested pursuant to the WTO Dispute Settlement Understanding (“DSU”). If such consultations should fail to resolve the matter and a dispute settlement panel is established pursuant to the DSU, such panel, which would hold its meetings in Geneva, Switzerland, would be expected to issue a report on its findings and recommendations within six to nine months after it is established.

Major Issues Raised by Argentina

With respect to the measures at issue, Argentina's request for consultations refers to the following:

• The final results of the sunset review by the U.S. Department of Commerce (“DOC”) of the antidumping duty order on OCTG from Argentina (65 FR 66701 (November 7, 2000));

• The final determination in the sunset review by the U.S. International Trade Commission (“ITC”) of the antidumping duty order on OCTG from Argentina (USITC Pub. No. 3434 (June 2001));

• The DOC's determination to continue the antidumping duty order on OCTG from Argentina (66 FR 38630 (July 25, 2001));

• Sections 751(c) and 752 of the Tariff Act of 1930, as amended;

• The URAA Statement of Administrative Action, H.R. Doc. No. 103-316, vol. 1 (1994);

• The DOC's Sunset Policy Bulletin (63 FR 18871 (April 16, 1998));

• The DOC's sunset review regulations, 19 CFR § 351.218; and

• The ITC's sunset review regulations, 19 CFR §§ 207.60-69.

With respect to the claims of WTO-inconsistency, Argentina's request for consultations refers to the following:

• The DOC failed to base the initiation of its sunset review on sufficient evidence that the termination of the antidumping duty order would likely lead to a continuation or recurrence of dumping;

• The use by the United States of a de minimis standard of 0.5 percent in a sunset review;

• The DOC's misapplication of the “likelihood” standard;

• The U.S. standard for determining whether the termination of antidumping orders would be “likely” to lead to the continuation or recurrence of injury;

• The failure by the ITC to conduct an “objective examination” of the record and its failure to base its determination of “positive evidence”; and

• The U.S. statutory requirements that the ITC determine whether injury would be likely to continue or recur “within a reasonably foreseeable time” and that the ITC “shall consider that the effects of revocation or termination may not be imminent, but may manifest themselves only over a longer period of time”.

Requirements for Submissions

Interested persons are invited to submit written comments concerning the issues raised in this dispute. Persons submitting comments may either send one copy by U.S. mail, first class, postage prepaid, to Sandy McKinzy at the address listed above, or transmit a copy electronically to FR0051@ustr.gov, with “Argentina Sunset Dispute” in the subject line. For documents sent by U.S. mail, USTR requests that the submitter provide a confirmation copy, either electronically, to the electronic mail address listed above, or by fax to (202) 395-3640. USTR encourages the submission of documents in Adobe PDF format, as attachments to an electronic mail. Interested persons who make submissions by electronic mail should not provide separate cover letters; information that might appear in a cover letter should be included in the submission itself. Similarly, to the extent possible, any attachments to the submission should be included in the same file as the submission itself, and not as separate files. Comments must be in English. A person requesting that information contained in a comment submitted by that person be treated as confidential business information must certify that such information is business confidential and would not customarily be released to the public by the submitting person. Confidential business information must be clearly marked “BUSINESS CONFIDENTIAL” in a contrasting color ink at the top of each page of each copy.

Information or advice contained in a comment submitted, other than business confidential information, may be determined by USTR to be confidential in accordance with section 135(g)(2) of the Trade Act of 1974 (19 U.S.C. 2155(g)(2)). If the submitting person believes that information or advice may qualify as such, the submitting person—

(1) Must so designate the information or advice;

(2) Must clearly mark the material as “SUBMITTED IN CONFIDENCE” in a contrasting color ink at the top of each page of each copy; and

(3) Is encouraged to provide an non-confidential summary of the information or advice.

Pursuant to section 127(e) of the URAA (19 U.S.C. 3537(e)), USTR will maintain a file on this dispute settlement proceeding, accessible to the public, in the USTR Reading Room, which is located at 1724 F Street, NW., Washington, DC 20508. The public file will include non-confidential comments received by USTR from the public with respect to the dispute; if a dispute settlement panel is convened, the U.S. submissions to that panel, the submissions, or non-confidential summaries of submissions, to the panel received from other participants in the dispute, as well as the report of the panel; and, if applicable, the report of the Appellate Body. An appointment to review the public file (Docket No. WT/DS-268, Argentina Sunset Dispute) may be made by calling the USTR Reading Room at (202) 395-6168. The USTR Reading Room is open to the public from 9:30 a.m. to 12 noon and 1 p.m. to 4 p.m., Monday through Friday.

Daniel E. Brinza,
Assistant United States Trade Representative for Monitoring and Enforcement.

[FR Doc. 03-1529 Filed 1-22-03; 8:45 am]

BILLING CODE 3190-01-M